DEPARTMENT OF HEALTH AND HUMAN SERVICES

Health Resources and Services Administration

Agency Information Collection Activities Title: Assessing the Use of Coaching To Promote Positive Caregiver-Child Interactions in Home Visiting

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than May 3, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Assessing the Use of Coaching to Promote Positive Caregiver-Child Interactions in Home Visiting OMB No. 0906-xxxx[NEW].

Abstract: The Maternal, Infant, and Early Childhood Home Visiting (MIECHV) Program, authorized by Social Security Act, Title V, § 511 (42 U.S.C. 711) and administered by HRSA in partnership with the Administration for Children and Families, supports voluntary, evidence-based home visiting services during pregnancy and for parents with young children up to kindergarten entry. States, tribal entities, and certain nonprofit organizations are eligible to receive funding from the MIECHV Program and have the flexibility to tailor the program to serve the specific needs of their communities. Funding recipients may subaward grant funds to local implementing agencies to provide home visiting services to eligible families in at-risk communities.

This information collection is part of the Assessing and Describing Practice Transitions Among Evidence-Based Home Visiting Programs in Response to the COVID-19 Public Health Emergency Study, which aims to identify and study practices implemented in response to the COVID-19 public health emergency that support evidence-based practice and have the potential to enhance home visiting programming. One of the practices the study identified is the use of coaching to promote caregiver-child interactions and positive caregiving skills. Coaching involves a home visitor providing instructions to the parent or caregiver as they carry out the skill and differs from a common home visiting strategy, modeling, in which home visitors first demonstrate a skill themselves before asking the parent or caregiver to try it. The purpose of this information collection is to better understand, through rapid cycle learning, how MIECHV-funded home visiting programs can implement coaching strategies during home visits.

Information will be collected in four phases designed to: (1) define coaching strategies (co-definition phase), (2) identify potential refinements to improve coaching strategies (installation phase), (3) iteratively test the refinements (refinement phase), and (4) assess the potential of coaching strategies to improve service delivery and promote family engagement and family satisfaction with home visiting programs (summary phase). Data collection activities include focus groups, online questionnaires, and review of documents and administrative data.

A 60-day notice published in the Federal Register on December 5, 2023, vol. 88, No. 232; pp. 84342-43. There were no public comments. One home visiting model developer requested copies of the information collection instruments.

Need and Proposed Use of the Information: The COVID-19 public health emergency led the MIECHV Program to rapidly adjust practices, within the bounds of evidence-based home visiting model guidance, to reduce service delivery disruptions while protecting the health and safety of home visiting participants and the home visiting workforce. Largely prompted by the shift to virtual home visits, one of these practice changes was to use coaching to promote positive caregiving skills and family-child interactions. Home visitors suggested that using coaching strategies enhanced the way that home visitors worked with families, particularly in virtual settings when home visitors were unable to use modeling strategies (e.g., in-person demonstrations by home visitors). Some findings indicate that home visitors who used coaching perceived that it led to improved family engagement and caregiver confidence in interacting with their child. However, other findings suggest that some families may not prefer coaching over modeling, and that coaching may create burden on home visitors. As home visitors transition back to primarily in-person home visits, there is a need for more information about strategies to support the implementation of coaching to effectively promote positive caregiver-child interactions in virtual and in-person settings, while reducing home visitor burden and increasing family acceptance of this strategy. HRSA intends to use collected information to provide evidence-informed resources and strategies that MIECHV awardees can use to inform their use of coaching strategies to strengthen their home visiting services.

Likely Respondents: Respondents include families who receive home visiting services and MIECHV-funded home visiting program staff, which may include program directors, managers, supervisors, and home visitors.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Program Eligibility Protocol | 16 | 1 | 16 | 1.00 | 16.0
Program Staff Focus Group Protocol 1 (Co definition Phase) | 24 | 1 | 24 | 1.50 | 36.0
Program Staff Focus Group Protocol 2 (Co-definition Phase) | 24 | 1 | 24 | 1.50 | 36.0
Program Staff Focus Group Protocol (Installation & Refinement Phases) | 24 | 3 | 72 | 1.00 | 72.0
Program Staff Focus Group Protocol (Summary Phase) | 24 | 1 | 24 | 1.00 | 24.0
Family Focus Group Protocol (Co-definition & Summary Phases) | 48 | 1 | 48 | 1.00 | 48.0
Home Visitor Learning Cycle Form (Installation & Refinement Phases) | 40 | 9 | 360 | 0.17 | 61.2
Family Post-Visit Form (Refinement Phase) | 48 | 6 | 288 | 0.08 | 23.0
Focus Group Participant Characteristics Form (All Phases) | 120 | 1 | 120 | 0.08 | 9.6
Total | 368 |  | 976 |  | 325.8

Maria G. Button,
Director, Executive Secretariat.

[FR Doc. 2024-07009 Filed 4-2-24; 8:45 am]

BILLING CODE 4165-15-P